DEPARTMENT OF LABOR

Employment and Training Administration

[TA-W-70,980]

Sumitomo Electric Wiring Systems, Inc., Lebanon, OH; Notice of Termination of Investigation

Pursuant to Section 223 of the Trade Act of 1974, as amended, an investigation was initiated in response to a petition filed on June 4, 2009, by a company official on behalf of workers of Sumitomo Electric Wiring Systems, Inc., Lebanon, Ohio.

The petitioning group of workers is covered by an active certification, (TA-W-70,971) which expires on July 10, 2011. Consequently, further investigation in this case would serve no purpose, and the investigation has been terminated.

Signed at Washington, DC, this 27th day of July 2009.
Linda G. Poole,
Certifying Officer, Division of Trade Adjustment Assistance.

[FR Doc. E9-20458 Filed 8-24-09; 8:45 am]

BILLING CODE 4510-FN-P